DEPARTMENT OF ENERGY

Notice of Availability: Draft Energy Storage Strategy and Roadmap; Withdrawal

AGENCY: Department of Energy.

ACTION: Notice of availability; request for public comments; withdrawal.

SUMMARY: On December 20, 2024, the Department of Energy (DOE) published notice of availability (NOA) in the Federal Register seeking public input to its draft Energy Storage Strategy and Roadmap (SRM). DOE is withdrawing the December 20, 2024, NOA.

FOR FURTHER INFORMATION CONTACT: Requests for additional information may be submitted electronically to Caitlin Callaghan at esgc@hq.doe.gov, or at (202) 586-1411.

Please direct media inquiries to DOE Office of Public Affairs, (202) 586-4940 or DOENews@hq.doe.gov.

SUPPLEMENTARY INFORMATION: On December 20, 2024, DOE published a document entitled “Notice of Availability: Draft Energy Storage Strategy and Roadmap” (89 FR 104129) seeking public comment on the draft. DOE subsequently extended the comment period on January 22, 2025 (90 FR 7680). DOE is withdrawing the notice of availability published in the Federal Register on December 20, 2024, at 89 FR 104129 (FR Doc. 2024-30390) and the subsequent comment period extension published on January 22, 2025, at 90 FR 7680 (FR Doc. 2025-01394). DOE is currently updating the draft Energy Storage Strategy and Roadmap (SRM) to ensure consistency with the current Administration's executive orders and agency directives. DOE, at its discretion, anticipates reposting the updated draft SRM for public comment at a future time; notice of its availability will be provided through the Federal Register.

Signing Authority

This document of the Department of Energy was signed on February 20, 2025, by Derek Passarelli, Acting Under Secretary for Science and Innovation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 21, 2025.
Treena V. Garrett,
Federal Register Liaison Officer, U.S. Department of Energy.

[FR Doc. 2025-03106 Filed 2-25-25; 8:45 am]

BILLING CODE 6450-01-P